DEPARTMENT OF STATE

[Public Notice 3390]

Bureau for International Narcotics and Law Enforcement Affairs; International Law Enforcement Academy—Roswell, New Mexico

AGENCY: Office of Europe, NIS, and Training; Bureau for International Narcotics and Law Enforcement Affairs, State.

ACTION: Notice.

SUMMARY: The Department of State (DOS) is soliciting a proposal to conduct international law enforcement training at the deBremmond National Guard facility, located in Roswell, New Mexico. The recipient will have access to the deBremmond facility for the purpose of implementing this program, as required by the pertinent congressional appropriation language. The recipient is required to have extensive knowledge of the local area and experience in dealing with cooperative agreements.

The facilities available at the deBremmond complex include dormitories, classrooms, office space, conference rooms, an auditorium and storage areas. These buildings will undergo extensive renovations prior to their occupancy, to meet exacting international standards. Initial training will be conducted at temporary commercial facilities. Dining and recreational facilities will be either provided on-site or contracted elsewhere. The maintenance, operation and repair of these buildings are the responsibility of the New Mexico National Guard.

This project envisions the creation of an International Law Enforcement Academy, utilizing a curriculum comprised of courses similar to those provided at a typical Criminal Justice university/college. The courses shall be designed and taught by academicians, for foreign law enforcement officials. The students will be mid-to-senior law enforcement and criminal justice officials from Eastern Europe, Russia, the former Soviet Union, ASEAN member countries and the PRC. After an initial period, countries from Latin America and Africa will also participate.

Typically, these courses will cover topics such as police organization and administration, psychology of criminal behavior, police organization and administration, family violence, planning for police operations, women in policing, urban violence, civil disobedience and dissent, etc. The instruction should be structured in four separate modules, each one week in duration, for an overall course length of four weeks. In addition, a cultural and institutional orientation component should be blended throughout the course. These courses will be offered year around, except for two breaks, one in the summer and the other at year's end, each lasting two weeks.

Each class will be comprised of approximately 50 students. After an initial phase of approximately one year, two classes will be run simultaneously bringing the student population to 100 for a total annual output of 1200 students. The instruction will be in English with simultaneous translation into at least three languages.

The recipient will be expected to offer administrative and logistical support for the program, to include, but not limited to: international and domestic travel arrangements for all participants, coordination with United States missions overseas to effect the identification and notification of candidates, cultural and programmatic orientation, provision of lodging and meals for the students, facilitation of emergency medical care, shipping of instructional materials, maintenance of personal and academic files, coordination with university staff to develop curriculum and deliver instruction, implementation of training plans, evaluation of training effectiveness, dissemination of information concerning the Academy, hosting of official visitors and foreign dignitaries, facilitation of cultural and recreational activities, interaction with city, county and military personnel connected with the Academy.

The Department of State's involvement in the execution of this project is considered substantial. DOS will provide guidance in the nature and composition of the courses, selection of students, training schedules, coordination with U.S. missions overseas, extracurricular activities and interaction with foreign officials involved in the operation of the program. DOS will also play a predominant role in the evaluation and modification of training methodologies. A DOS representative resident in Roswell, NM, and the International Narcotics and Law Enforcement (INL) Bureau, in Washington, DC will conduct these activities.

DATES: Strict deadlines for submissions are: Full proposals must be received at INL no later than 30 days from the date of the announcement. Prospective respondents to this notice should contact Linda Gower, Grants Officer, as soon as they have determined an interest in this notice. For contact information see page 4.

Sixty days from the closing date should be used as the proposed start date on proposals, unless otherwise directed by a program manager. All proposals must be submitted in accordance with the guidelines below. Failure to heed these guidelines may result in proposals being returned without review.

ADDRESSES: Proposals may be submitted to: U.S. Department of State, Bureau of International Narcotics and Law Enforcement Affairs, Navy Hill South, 2430 E Street NW., Washington, DC 20520, Attn: Linda Gower.

FOR FURTHER INFORMATION CONTACT: Linda Gower, Grants Officer, at above address, TEL: 202-776-8774, Fax: 202-776-8775, E-mail: gowerlg@state.gov or Thom Browne at above address, Tel: 202-736-4662, Fax: 202-647-6962.

Once the RFA deadline has passed, DOS staff may not discuss competition in any way with applicants until the proposal review process has been completed.

SUPPLEMENTARY INFORMATION:

Funding Availability

This Program Announcement is for a project to be conducted by agencies/programs outside the Federal government, over a period of up to five years. Actual funding levels will depend upon availability of funds. Current plans are for up to a total of $6,000,000 for the first year and $5,000,000 for every year thereafter, to be available for one new award. The funding instrument for this award will be a cooperative agreement. Funding for non-U.S. institutions and contractual arrangements for services and products for delivery to INL are not available under this announcement. No proposal should exceed a total cost of $26,000,000.

Program Authority

Authority: Section 635(b) of the Foreign Assistance Act of 1961, as amended.

Program Objectives

The goal of this program is to increase the technical capabilities of foreign country law enforcement officials to combat crime, institute democratic practices, and to ensure that through international law enforcement cooperation, U.S. agencies succeed in intercepting the movement of transnational criminal elements into the U.S. and throughout the world.

Program Priorities

This Announcement invites proposals for the following program priorities. The recipient shall be responsible for the execution of all four areas described below:

(1) Development of curriculum to meet the requirements described in the Summary above.

(2) Organization and start-up of the Academy in Roswell, NM.

(3) Day-to-day operations and administrative and logistical support of the Academy.

(4) Conduct of training activities to reach the student output levels described in the Summary above.

Any applicants who will be working with universities to implement the proposed assessment or evaluation programs may sub-grant or sub-contract services to assist in fulfilling program objectives.

Eligibility

Eligibility is limited to non-Federal agencies and organizations. Universities and non-profit organizations are included among entities eligible for funding under this announcement. Direct funding for non-U.S. institutions is not available under this announcement.

Evaluation Criteria

Consideration for financial assistance will be given to those proposals which adequately address the Program Priorities identified above and meet the following evaluation criteria:

(1) Relevance (15%): Importance and relevance to the goal and objectives of the program identified above. Definition of how the training to be provided at the Academy will satisfy the needs of the participating countries, as described under “Program Objectives”.

(2) Methodology (25%): Adequacy of the proposed approach and activities, including development of training programs and project milestones. Clear definition of the steps required for the gradual implementation of the program, from its inception to full development.

(3) Readiness (25%): Relevant history and experience in conducting training related programs, past performance record of proposers. Familiarity with foreign environments and ability to deal with individuals of diverse linguistical and cultural backgrounds.

(4) Linkages (20%): Ability to interact with key personnel in the local community, intended training facility and universities in the Roswell, NM area.

(5) Costs (15%): Adequacy/efficiency of the proposed resources.

Selection Procedures

All proposals will be evaluated and ranked in accordance with the assigned weights of the above evaluation criteria by independent peer panel review composed of INL and other Department of State experts. The panel's recommendations and evaluations will be considered by the program managers in final selections. Those ranked by the panel and program managers as not recommended for funding will not be given further consideration and will be notified of non-selection. For the proposals rated for possible funding, the program managers will: (a) Ascertain which proposals meet the objectives and fit the criteria posted; (b) select the proposals to be funded in accordance with the evaluation criteria.

Unsatisfactory performance by a recipient under prior Federal awards may result in an application not being considered for funding.

Proposal Submission

The guidelines for proposal preparation provided below are mandatory. Failure to heed these guidelines may result in proposals being returned without review.

(a) Full Proposals

(1) Proposals submitted to INL must include the original and three unbound copies of the proposal. (2) Program descriptions must be limited to 30 pages (numbered), not including budget, personal vitae, letters of support and all appendices, and should be limited to funding requests for one to five years duration. Federally mandated forms are not included within the page count. (3) Proposals should be sent to INL at the above address. (4) Facsimile transmissions of full proposals will not be accepted.

(b) Required Elements

(1) Signed title page: The title page should be signed by the Project Director (PD) and the institutional representative. The PD and institutional representative should be identified by full name, title, organization, telephone number and address. The total amount of Federal funds being requested should be listed for each budget period.

(2) Abstract: An abstract must be included and should contain an introduction, rationale and a brief summary of work to be completed. The abstract should appear as a separate page, headed with the proposal title, institution(s) name, total proposed cost and budget period.

(3) Prior program experience: A summary of prior experience (especially those related to training programs) should be described, including activities related to program priorities identified above. Reference to each prior program award should include the title, agency, award number, period of award and total award. The section should be a brief summary and should not exceed two pages total.

(4) Project description: The proposed project must be completely described, including identification of project objectives, relevance to the goal and objectives of the program, and the program priorities listed above.

(5) Budget: Applicants must submit a Standard form 424 “Application for Federal Assistance,” including a detailed budget using the Standard Form 424a, “Budget Information—Non-Construction Programs.” The proposal must include total and annual budgets corresponding with the descriptions provided in the statement of work. Standard Forms may be downloaded from the following website: www.whitehouse.gov/omb/grants.

Additional text to thoroughly support expenses should be included (i.e., salaries and benefits by each proposed staff person by name (if known); direct costs such as travel (airfare, per diem, miscellaneous travel costs); equipment, supplies, contractual, insurance and indirect costs). Indicate if indirect rates are DCAA or other Federal agency approved or proposed rates and provide a copy of the current rate agreement. In addition, furnish the same level of information regarding sub-grantee costs, if applicable, and submit a copy of your most recent A-110 audit report. A guideline for budget preparation may be obtained from the Grants Officer listed above.

(6) Vitae: Abbreviated curriculum vitae are sought with each proposal. Vitae for each project staff person should not exceed three pages in length.

(c) Other Requirements

Primary Applicant Certification—All primary applicants must submit a completed Form CD-511, “Certification Regarding Debarment, Suspension and Other Responsibility Matters; DrugFree Workplace Requirements and Lobbying.” Applicants are also hereby notified of the following:

1. Non procurement Debarment and Suspension—Prospective participants (as defined at 15 CFR Part 26, section 105) are subject to 15 CFR Part 26, “Non-procurement Debarment and Suspension,” and the related section of the certification form prescribed above applies;

2. Drug Free Workplace—Grantees (as defined at 15 CFR part 26, section 605) are subject to 15 CFR Part 26, Subpart F, “Government wide Requirements for Drug-Free Workplace (Grants)” and the related section of the certification form prescribed above applies;

3. Anti-Lobbying—Persons (as defined at 15 CFR Part 28, section 105) are subject to the lobbying provisions of 31 U.S.C. 1352, “Limitation on use of appropriated funds to influence certain Federal contracting and financial transactions,” and the lobbying section of the certification form prescribed above applies to applications/bids for grants of more than $100,000; and

4. Anti-Lobbying Disclosures—Any applicant that has paid or will pay for lobbying using any funds must submit SFLLL, “Disclosure of Lobbying Activities,” as required under 15 CFR part 28, appendix B.

Lower Tier Certifications

(1) Recipients must require applicants/bidders for subgrants or lower tier covered transactions at any tier under the award to submit, if applicable, a completed Form CD-512, “Certifications Regarding Debarment, Suspension, Ineligibility and Voluntary Exclusion-Lower Tier Covered Transactions and Lobbying” and disclosure Form SF-LLL, “Disclosure of Lobbying Activities.” Form CD-512 is intended for the use of recipients and should not be transmitted to Department of State (DOS). SF-LLL submitted by any tier recipient or sub-recipient should be submitted to DOS in accordance with the instructions contained in the award document.

(2) Recipients and sub-recipients are subject to all applicable Federal laws and Federal and Department of State policies, regulations, and procedures applicable to Federal financial assistance awards.

(3) Pre-award Activities—If applicants incur any costs prior to an award being made, they do so solely at their own risk of not being reimbursed by the Government. Notwithstanding any verbal assurance that may have been received, there is no obligation to the applicant on the part of the Department of State to cover pre-award costs.

(4) This program is subject to the requirements of OMB Circular No. A-110, “Uniform Administrative Requirements for Grants and Other Agreements with Institutions of Higher Education, Hospitals, and Other Non-Profit Organizations,” OMB Circular No. A-133, “Audits of Institutions of Higher Education and Other Non-Profit Institutions,” and 15 CFR Part 24, “Uniform Administrative Requirements for Grants and Cooperative Agreements to State and Local Governments,” as applicable. Applications under this program are not subject to Executive Order 12372, “Intergovernmental Review of Federal Programs.”

(5) All non-profit applicants are subject to a name check review process. Name checks are intended to reveal if any key individuals associate with the applicant have been convicted of, or are presently facing criminal charges such as fraud, theft, perjury, or other matters which significantly reflect on the applicant's management, honesty, or financial integrity.

(6) A false statement on an application is grounds for denial or termination of funds and grounds for possible punishment by a fine or imprisonment as provided in 18 U.S.C. 1001.

(7) No award of Federal funds shall be made to an applicant who has an outstanding delinquent Federal debt until either:

(i) The delinquent account is paid in full,

(ii) A negotiated repayment schedule is established and at least one payment is received, or

(iii) Other arrangements satisfactory to the Department of State are made.

(8) Buy American-Made Equipment or Products—Applicants are reminded that any equipment or products authorized to be purchased with funding provided under this program must be American-made to the maximum extent feasible.

(9) The total dollar amount of the indirect costs proposed in an application under this program must not exceed the indirect cost rate negotiated and approved by a cognizant Federal agency prior to the proposed effective date of the award or 100 percent of the total proposed direct cost dollar amount in the application, whichever is less.

(d) If an application is selected for funding, the Department of State has no obligation to provide any additional future funding in connection with the award. Renewal of an award to increase funding or extend the period of performance is at the total discretion of the Department of State.

(e) In accordance with Federal statutes and regulations, no person on grounds of race, color, age, sex, national origin or disability shall be excluded from participation in, denied benefits of or be subjected to discrimination under any program or activity receiving assistance from this INL program.

Notwithstanding any other provision of law, no person is required to respond to nor shall a person be subject to a penalty for failure to comply with a collection of information subject to the requirements of the Paperwork Reduction Act unless that collection of information displays a current valid OMB control number. The standard forms have been approved by the Office of Management and Budget pursuant to the Paperwork Reduction Act under OMB approval number 0348-0043, 0348-0044, and 0348-0046. Classification: This notice has been determined to be not significant for purposes of Executive Order 12866.

Dated: August 11, 2000.
Thomas M. Browne,
Deputy Director, Office of Europe, NIS, and Training, Bureau for International Narcotics and Law Enforcement Affairs, U.S. Department of State.

[FR Doc. 00-20818 Filed 8-15-00; 8:45 am]

BILLING CODE 4710-17-P